DEPARTMENT OF LABOR

Office of the Secretary

Submission for OMB Review; Comment Request

January 9, 2003.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4148 or e-mail Howze-Marlene@dol.gov.

Comments should be sent to Office of Information and Regulatory Affairs, Attn: OMB Desk Officer for ESA, Office of Management and Budget, Room 10235, Washington, DC 20503 ((202) 395-7316), within 30 days from the date of this publication of the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Work Experience and Career Exploration Programs (29 CFR 570.35A).

OMB Number: 1215-0121.

Affected Public: Individuals or households and State, Local or Tribal Government.

Frequency: Biennially.

Number of Respondents: 14,014.

Number of Annual Responses: 14,014.

Average Time Per Response:

Reporting

• WECEP Application—2 hours.

• Written Training Agreement—1 hours.

Record-keeping

• WECEP Program Information—1 hour.

• Filing of WECEP Record and Training Agreement—One-half minute.

Total Burden Hours: 7,145.

Total Annualized Capital/Startup Costs: $0.

Total Annual Costs (operating/maintaining systems or purchasing services): $0.

Description: Section (3)(1) of the Fair Labor Standards Act (FLSA) establishes a minimum age of 16 for most nonagricultural employment, but allows the employment of 14 and 15 year olds in occupations other than manufacturing and mining if the Secretary of Labor determines such employment is confined to periods which will not interfere with their schooling and to conditions which will not interfere with their health and well-being. State educational agencies are required to file applications for approval of Work Experience and Career Exploration Programs (WECEP) that provide exceptions to the child labor regulations issued under the FLSA. State educational agencies are also required to maintain certain records with respect to approved WECEP programs. Less frequent application would not ensure that these programs do not interfere with the schooling of the minors or with their health and well-being. Less frequent record-keeping would make a determination of compliance with the law and regulations extremely difficult.

Ira L. Mills,
Department Clearance Officer.

[FR Doc. 03-1523 Filed 1-22-03; 8:45 am]

BILLING CODE 4510-27-M